DEPARTMENT OF JUSTICE

[OMB Number 1105-0080]

Agency Information Collection Activities; Proposed eCollection eComments Requested; Extension of a Previously Approved Collection; Title: Annuity Broker Declaration Form

AGENCY: Civil Division, Department of Justice.

ACTION: 60-Day notice.

SUMMARY: The Civil Division, Department of Justice (DOJ), will be submitting the following information collection request to the Office of Management and Budget (OMB) for review and approval in accordance with the Paperwork Reduction Act of 1995.

DATES: Comments are encouraged and will be accepted for 60 days until June 27, 2025.

FOR FURTHER INFORMATION CONTACT: If you have additional comments especially on the estimated public burden or associated response time, suggestions, or need a copy of the proposed information collection instrument with instructions or additional information, please contact Caitlin Palacios, Torts Branch, Civil Division, United States Department of Justice, P.O. Box 7146, Ben Franklin Station, Washington, DC 20044, (202) 307-1404, caitlin.s.palacios@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This declaration is to be submitted to determine whether a broker meets the minimum qualifications to be listed as an annuity broker pursuant to Section 11015(b) of Public Law 107-273.

Overview of This Information Collection

1. Type of Information Collection: Extension of a previously approved collection.

2. The Title of the Form/Collection: Annuity Broker Declaration Form.

3. The agency form number, if any, and the applicable component of the Department sponsoring the collection: OMB #1105-0080.

4. Affected public who will be asked or required to respond, as well as the obligation to respond: Primary: Individuals.

5. An estimate of the total number of respondents and the amount of time estimated for an average respondent to respond: It is estimated that 300 respondents will complete the form annually within approximately 1 hour.

6. An estimate of the total annual burden (in hours) associated with the collection: 300 annual burden hours.

7. An estimate of the total annual cost burden associated with the collection, if applicable:

Total Burden Hours
Activity | Number of respondents | Frequency | Total annual responses | Time per response (hour) | Total annual burden (hours)
Annuity Broker Declaration Form | 300 | Annually | 300 | 1 | 300
Unduplicated Totals | 300 |  | 300 |  | 300

If additional information is required contact: Darwin Arceo, Department Clearance Officer, United States Department of Justice, Justice Management Division, Policy and Planning Staff, Two Constitution Square, 145 N Street NE, 4W-218, Washington, DC.

Dated: April 23, 2025.
Darwin Arceo,
Department Clearance Officer for PRA, U.S. Department of Justice.

[FR Doc. 2025-07318 Filed 4-28-25; 8:45 am]

BILLING CODE 4410-12-P